ENVIRONMENTAL PROTECTION AGENCY

[ER-FRL-6611-8]

Environmental Impact Statements; Notice of Availability

Responsible Agency: Office of Federal Activities, General Information (202) 564-7167 OR www.epa.gov/oeca/ofa

Weekly receipt of Environmental Impact Statements

Filed October 09, 2000 Through October 13, 2000

Pursuant to 40 CFR 1506.9.

EIS No. 000347, Final EIS, NPS, ID, MT, WY, MT, WY, Yellowstone and Grand Teton National Parks and John D. Rockefeller, Jr. Memorial Parkway Winter Use Plan, Implementation, Fremont County, ID, Gallatin and Park Counties, MT and Park and Teton Counties, WY, Due: November 20, 2000, Contact: Clifford Hawkes (303) 969-2262.

EIS No. 000348, Final EIS, FHW, WV, MD, VA, US 522 Upgrade and Improvements Project, From the Virginia State Line through Morgan County to the Maryland State Line, Funding, NPDES and COE Section 404 Permit, Berkeley Springs, Morgan County, WV, Due: December 15, 2000, Contact: Thomas Smith (304) 347-5928.

EIS No. 000349, Draft EIS, AFS, ID, Curfew National Grassland Land and Resource Management Plan, Implementation, Caribou-Targhee National Forest, Oneida County, ID, Due: January 29, 2001, Contact: Jack Blackwell (801) 625-5605.

EIS No. 000350, Final EIS, NPS, KS, Tallgrass Prairie National Preserve General Management Plan, Implementation, Flint Hills Region, Chase County, KS, Due: November 20, 2000, Contact: Steve Miller (316) 273-6034.

EIS No. 000351, Final EIS, NPS, MN, WI, Lower Saint Croix National Scenic Riverway Cooperative Management Plan, Implementation, MN and WI, Due: November 20, 2000, Contact: Michael Madell (608) 441-5600.

EIS No. 000352, Final EIS, BLM, Programmatic EIS—Surface Management Regulations for Locatable Mineral Operation, (43 CFR 3809), Public Land, Due: November 20, 2000, Contact: Paul McNutt (775) 861-6604.

EIS No. 000353, Draft EIS, JUS, WA, Tacoma/Seattle Area Detention Center, Construction and Leasing, Pierce County, WA, Due: December 04, 2000, Contact: Eric Verwers (817) 978-0202.

EIS No. 000354, Draft EIS, FHW, NJ, NJ-52(1) Causeway (known as MacArthur Boulevard) Construction Project, between NJ-9 in Somers Point, Atlantic County to Bay Avenue in Ocean City, Cape May County, Funding, COE Section 404 and 10 Permits, USCG Permit, Atlantic and Cape May Counties, NJ, Due: December 05, 2000, Contact: Gene Amparano (609) 637-4234.

EIS No. 000355, Final EIS, AS, CA, 64-Acre Tract Intermodal Transit Center, Construction and Operation, Lake Tahoe Basin Management Unit, Tahoe City, Placer County, CA, Due: November 20, 2000, Contact: Joe Oden (530) 573-2653.

EIS No. 000356, Draft EIS, FHW, NY, NY-22 Transportation Improvement, from I-684 to north of County Road 65, Doansburg Road, Construction, COE Section 404 Permit, Town of Southeast, Putnam County, NY, Due: December 04, 2000, Contact: Harold J. Brown (518) 431-4127.

EIS No. 000357, Final EIS, COE, MS, TN, MS, TN, Wolf River Ecosystem Restoration, Memphis, Tennessee Feasibility Study, Marshall, Benton and Tippah Counties, MS and Shelby, Fayette and Harderman, TN, Due: November 20, 2000, Contact: Richard Hite (901) 544-0706.

EIS No. 000358, Draft Supplement, BLM, CA, Cadiz Groundwater Storage and Dry-Year Supply Program, Amendment of the California Desert Conservation Area Plan, Additional Information, Groundwater Monitoring and Management Program, Issuance of Right-of-Way Grants and Permits, San Bernardino County, CA, Due: December 04, 2000, Contact: James Williams (909) 657-5390.

EIS No. 000359, Draft EIS, USN, CA, Naval Station (NAVSTA) San Diego Replacement Pier and Dredging Improvements, Construction, Dredging and Dredged Material Disposal, San Diego Naval Complex, San Diego, CA, Due: December 04, 2000, Contact: Grace S. Penafuerte (619) 556-7773.

EIS No. 000360, Draft Supplement, NRC, Generic—License Renewal of Nuclear Plants, Arkansas Nuclear One, Unit 1, COE Section 10 and 404 Permits, Pope County, AR (NUREG-1437), Due: January 04, 2001, Contact: Thomas Kenyon (301) 415-1120.

EIS No. 000361, Draft Supplement, FTA, WA, Central Link Light Rail Transit Project, (Sound Transit), Construction and Operation, Alternative Route Considered, Tukwila Freeway Route, COE Section 10 and 404 Permits, Cities of Tukwila, SeaTac, Seattle, King County, WA, Due: December 04, 2000, Contact: John Witmer (206) 220-4463.

EIS No. 000362, Draft EIS, GSA, DC, Bureau of Alcohol, Tobacco and Firearms National Headquarters Building, Site Acquisition, Design and Construction, Washington, D.C., Due: December 04, 2000, Contact: Dawud Abdur-Rahman (202) 260-3368.

Amended Notices

EIS No. 000320, Draft EIS, AS, AK, Chugach National Forest, Proposed Revised Land and Resource Management Plan, Implementation, Glacier, Seward and Cordora Ranger Districts, Kenai Peninsula Borough, AK, Due: December 14, 2000, Contact: Dave Gibbons (907) 271-2500. Revision of FR notice published on 09/15/2000: CEQ Comment Date corrected from 10/30/2000 to 12/14/2000.

EIS No. 000333, Second Draft Supple, JUS, TX, AZ, NM, CA, Programmatic—Revised Draft Supplemental EIS US Naturalization Service (INS) and US Joint Task Force-Six (JTF-6) Activities Along the US/Mexico Border from Brownsville, Texas to San Diego, California, Due: November 13, 2000, Contact: Eric Verwers (817) 978-0202. Revision of FR notice published on 09/29/2000: Correction of Status from Revised Draft to Revised Draft Supplemental EIS and Title Correction.

Dated: October 17, 2000.
Joseph C. Montgomery,
Director, NEPA Compliance Division, Office of Federal Activities.

[FR Doc. 00-27064 Filed 10-19-00; 8:45 am]

BILLING CODE 6560-50-P